U.S. INTERNATIONAL DEVELOPMENT FINANCE CORPORATION

2 CFR Chapter XVI

Nonprocurement Suspension and Debarment; Correction

AGENCY: U.S. International Development Finance Corporation.

ACTION: Proposed rule; correction.

SUMMARY: This document corrects a U.S. International Development Finance Corporation (DFC) proposed rule published in the Federal Register on January 5, 2024, regarding nonprocurement suspension and debarment (S&D). This correction clarifies that contracts where DFC has a privity of contract (first-tier procurement) should be covered transactions under the nonprocurement S&D requirements.

DATES: January 22, 2024.

FOR FURTHER INFORMATION CONTACT: Agency Submitting Officer: Deborah Papadopoulos, (202) 357-3979, Email: fedreg@dfc.gov.

SUPPLEMENTARY INFORMATION:

Correction

§ 1600.220 [Corrected]

In the proposed rule, FR Doc. 2023-28838, in the issue of January 5, 2024, on page 715, in the third column, § 1600.220 is corrected by removing “None” and adding “First-tier procurements (i.e., primary contracts) under a covered nonprocurement transaction are covered transactions” in its place.

Dated: January 17, 2024.
Dev Jagadesan,
Deputy General Counsel, Office of the General Counsel, U.S. International Development Finance Corporation.

[FR Doc. 2024-01112 Filed 1-19-24; 8:45 am]

BILLING CODE 3210-02-P